DEPARTMENT OF THE TREASURY

Submission for OMB Review; Comment Request

August 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 27, 2001 to be assured of consideration.

Bureau of Alcohol, Tobacco and Firearms (BATF)

OMB Number: 1512-0202.

Form Number: ATF Form 5110.34.

Type of Review: Extension.

Title: Notice of Change in Status of Plant.

Description: ATF F 5110.34 is necessary to show the use of distilled spirits plant (DSP) premises for other activities or by alternating proprietors. It describes proprietor's use of plant premises and other information to show that the change in plant status is in conformity with law and regulations. It also shows what bond covers the activities of the DSP at a given time.

Respondents: Business or other for-profit.

Estimated Number of Respondents: 100.

Estimated Burden Hours Per Respondent: 1 hour.

Frequency of Response: On occasion.

Estimated Total Reporting Burden: 1,000 hours.

OMB Number: 1512-0209.

Form Number: ATF F 5110.50.

Type of Review: Extension.

Title: Tax Deferral Bond—Distilled Spirits (Puerto Rico).

Description: ATF F 5110.50 is the bond to secure payment of excise taxes on distilled spirits shipped from Puerto Rico to the U.S. on deferral of the tax. The form identifies the principal, the surety, purpose of bond, and allocation of the penal sum among the principal's locations.

Respondents: Business or other for-profit.

Estimated Number of Respondents: 10.

Estimated Burden Hours Per Respondent: 1 hour.

Frequency of Response: On occasion.

Estimated Total Reporting Burden: 10 hours.

OMB Number: 1512-0398.

Form Number: ATF F 2093 (5200.3), ATF F 2098 (5200.16), ATF F 5230.4 and ATF F 5230.5.

Type of Review: Revision.

Title: Application for Permit Under 26 U.S.C. Chapter 52, Manufacturer of Tobacco Products or Proprietor of Export Warehouse (2093); Application for Amended Permit Under 26 U.S.C. 5712, Manufacture of Tobacco Products or Proprietor of Export Warehouse (2098); Application for Permit Under 26 U.S.C. Chapter 52, Importer of Tobacco Products (5230.4); and Application for Amended Permit Under 26 U.S.C. 5712, Importer of Tobacco Products (5230.5).

Description: These forms and any additional supporting documentation are used by tobacco industry members to obtain and amend permits necessary to engage in business as a manufacturer of tobacco products, importer of tobacco products or proprietor of export warehouse. This information collection includes 4 forms. Because this revision only involves changes to ATF F 5230.4 only that form was submitted with this package.

Respondents: Business or other-for-profit.

Estimated Number of Respondents: 630.

Estimated Burden Hours Per Respondent: 2 hours.

Frequency of Response: On occasion.

Estimated Total Reporting Burden: 1,130 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Mary A. Able,
Departmental Reports Management Officer.

[FR Doc. 01-21678 Filed 8-27-01; 8:45 am]

BILLING CODE 4810-31-P